DEPARTMENT OF TRANSPORTATION

Federal Aviation Administration

Advisory Circular (AC) 23-20, Acceptance Guidance on Material Procurement and Process Specifications for Polymer Matrix Composite Systems

AGENCY: Federal Aviation Administration, DOT.

ACTION: Notice of issuance of advisory circular.

SUMMARY: This notice announces the issuance of Advisory Circular (AC) 23-20, Acceptance Guidance on Material Procurement and Process Specifications for Polymer Matrix Composite Systems. The AC provides an acceptable means, but not the only means, to show compliance with 14 CFR part 23 as applicable to the material and process specifications, or other documents, used to ensure sufficient control of composite prepreg materials in normal, utility, acrobatic and commuter airplanes.

DATES: Advisory Circular 23-20 was issued by the Manager of the Small Airplane Directorate on September 19, 2003.

How to Obtain Copies: A paper copy of AC 23-20 may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri, on October 3, 2003.
Michael Gallagher,
Manager, Small Airplane Directorate, Aircraft Certification Service.

[FR Doc. 03-25948 Filed 10-10-03; 8:45 am]

BILLING CODE 4910-13-P